DEPARTMENT OF ENERGY

Federal Energy Regulatory Commission

Notice of Application Accepted for Filing and Soliciting Comments, Motions To Intervene, and Protests

May 4, 2005.

Take notice that the following hydroelectric application has been filed with the Commission and is available for public inspection:

a. Type of Application: New water withdrawal from licensed project waters.

b. Project No.: 2232-487.

c. Date Filed: April 6, 2005.

d. Applicant: Duke Power Company.

e. Name of Project: Catawba-Wateree.

f. Location: The Catawba-Wateree Project is located in Alexander, Burke, Caldwell, Catawba, Gaston, Iredell, Lincoln, McDowell and Mecklenburg Counties, North Carolina and Chester, Fairfield, Kershaw, Lancaster, and York Counties, South Carolina. This project does not occupy any federal lands.

g. Filed Pursuant to: Federal Power Act, 16 U.S.C. 791a-825r.

h. Applicant Contact: Mr. Joe Hall, Lake Management Representative, Duke Power, Division of Duke Energy Corp., P.O. Box 1006, Charlotte, North Carolina 28201-1006, (704) 382-8576.

i. FERC Contact: Any questions regarding this notice should be addressed to Blake Condo at (202) 502-8914.

j. Description of Request: Duke Power proposes to grant a new water withdraw easement to the Town of Mooresville, North Carolina for project property within Lake Norman. The easement will provide for the placement of new intake screens and new water intake pipes, allowing the Town of Mooresville to withdraw water using a new raw water intake pump station. The proposed water intake and pump station would be located adjacent to the existing raw water intake and existing pump station. Mooresville has requested that the new facility have an initial capacity of 12 million gallons per day (MGD). The water intake and pump facility will be located in Iredell County, North Carolina.

k. Deadline for filing comments or motions: June 6, 2005.

l. Locations of the application: A copy of the application is available for inspection and reproduction at the Commission's Public Reference Room, located at 888 First Street, NE., Room 2A, Washington, DC 20426 or may be viewed on the Commission's Web site at http://www.ferc.gov using the “eLibrary” link. Enter the docket number excluding the last three digits in the docket number field to access the document. For assistance, call toll-free 1-866-208-3676 or e-mail FERCOnlineSupport@ferc.gov. For TTY, call (202) 502-8659. A copy is also available for inspection and reproduction at the address in item “h” above.

m. Filing and Service of Responsive Documents: Any filings must bear in all capital letters the title “COMMENTS”, “RECOMMENDATIONS FOR TERMS AND CONDITIONS”, “PROTEST”, or “MOTION TO INTERVENE”, as applicable, and the project number (P-2232-457) to which the filing refers. All documents (original and eight copies) should be filed with: The Secretary, Federal Energy Regulatory Commission, 888 First Street, NE., Washington, DC 20426. A copy of any motion to intervene must also be served upon each representative of the Applicant specified in the particular application. Comments, protests, and interventions may be filed electronically via the internet in lieu of paper. See 18 CFR 385.2001(a)(1)(iii) and the instructions on the Commission's Web site under the “e-Filing” link. The Commission strongly encourages e-filings.

Anyone may submit responses in accordance with the requirements of Rules of Practice and Procedure, 18 CFR 385.210, .211, .214. In determining the appropriate action to take, the Commission will consider all protests or other comments filed, but only those who file a motion to intervene in accordance with the Commission's Rules may become a party to the proceeding. Any responses must be received on or before the specified comment date for the particular application.

n. Agency Comments: Federal, State, and local agencies are invited to file comments on the described applications. A copy of the applications may be obtained by agencies directly from the Applicant. If an agency does not file comments within the time specified for filing comments, that agency will be presumed to have no comments. One copy of an agency's comments must also be sent to the Applicant's representatives.

Magalie R. Salas,
Secretary.

[FR Doc. E5-2334 Filed 5-11-05; 8:45 am]

BILLING CODE 6717-01-P